DEPARTMENT OF COMMERCE

National Oceanic and Atmospheric Administration

[I.D. 120304E]

Guidelines for Producing the Climate Change Science Program Synthesis and Assessment Products

AGENCY: National Oceanic and Atmospheric Administration (NOAA), Commerce.

ACTION: Notice.

SUMMARY: The United States Climate Change Science Program (CCSP) is announcing the Guidelines for Producing the CCSP Synthesis and Assessment Products, which are described in the Strategic Plan for the U.S. Climate Change Science Program. The synthesis and assessment products are intended to provide useful information for a variety of users about key climate change topics. The products include reports, data sets, and evaluations of the uses and limits of climate information for decisionmaking.

ADDRESSES: The CCSP website is at:

http://www.climatescience.gov. The finalized guidelines are available on the CCSP web site at:

http://www.climatescience.gov/Library/sap/sap-guidelines.htm. The draft guidelines and a collation of comments submitted are available on the CCSP web site at:

http://www.climatescience.gov/Library/sap/sap-guidelines-29mar2004.pdf and

http://www.climatescience.gov/Library/sap/guidelines-comments/default.htm.

FOR FURTHER INFORMATION CONTACT: Ms. Sandy MacCracken, U.S. Climate Change Science Program, Suite 250, 1717 Pennsylvania Ave., N.W., Washington, DC 20006, 1-202-419-3483 (voice), 1-202-223-3065 (fax), smaccrac@usgcrp.gov (e-mail).

SUPPLEMENTARY INFORMATION: The Climate Change Science Program is an interagency endeavor, with 13 participating Federal agencies and departments. One or more of the agencies that comprise CCSP will have the lead responsibility for preparing each product. The national and international research community is anticipated to play a major role in preparation of many of the products. See Chapter 2 of the Strategic Plan for the U.S. Climate Change Science Program for a detailed description of the products.

To ensure consistency and transparency in the processes that will be used by the lead and supporting CCSP agencies in preparing the products, the guidelines describe the roles of different parties and the steps to be followed in each of three phases of the preparation process—developing the prospectus, drafting and revising the document, and final approval and publication of each product. This process of product development will facilitate involvement of the research community and the public in ensuring that the products meet the highest standards of scientific excellence. The guidelines also encourage transparency by ensuring that public information about the status of the products will be provided on the CCSP web site (see ADDRESSES).

Comments on the draft guidelines were solicited during a public comment period from 29 March 2004 to 7 May 2004. The guidelines have been revised extensively in response to these comments and input from the National Research Council (NRC) provided during a meeting of the NRC's Coordinating Committee on Global Change held in Washington, DC on 8-9 April 2004.

Dated: December 6, 2004.
James R. Mahoney,
Assistant Secretary of Commerce for Oceans and Atmosphere and Director, U.S. Climate Change Science Program.

[FR Doc. 04-27264 Filed 12-10-04; 8:45am]

BILLING CODE 3510-22-S